DEPARTMENT OF COMMERCE

National Oceanic and Atmospheric Administration

50 CFR Part 648

[I.D. 052300A]

New England Fishery Management Council; Public Meeting

AGENCY: National Marine Fisheries Service (NMFS), National Oceanic and Atmospheric Administration (NOAA), Commerce.

ACTION: Notification of public meeting.

SUMMARY: The New England Fishery Management Council (Council) will hold a 2-day public meeting on June 14 and 15, 2000, to consider actions affecting New England fisheries in the exclusive economic zone (EEZ).

DATES: The meeting will be held on Wednesday, June 14, 2000, beginning at 9:30 a.m. and Thursday, June 15, beginning at 8:30 a.m.

ADDRESSES: The meeting will be held at the Sheraton Harborside Hotel, 250 Market Street, Portsmouth, NH 03801; telephone (603) 431-2300. Requests for special accommodations should be addressed to the New England Fishery Management Council, 50 Water Street, Mill 2, Newburyport, MA 01950; telephone (978) 465-0492.

FOR FURTHER INFORMATION CONTACT: Paul J. Howard, Executive Director, New England Fishery Management Council (978) 465-0492.

SUPPLEMENTARY INFORMATION:

Wednesday, June 14, 2000

After introductions, the meeting will begin with a report from the Chairman of the Council's Magnuson-Stevens Fishery Conservation and Management Act (Magnuson-Stevens Act) Committee (committee). The committee will seek Council guidance on issues to be considered for the development of comments during the Magnuson-Stevens Act reauthorization process and may ask for approval of preliminary draft comments. This agenda item will be followed by two presentations to be discussed by NMFS staff: An overview of the Vessel Monitoring System Program in the Northeast; and Applications of Vessel Monitoring Systems for Improved Fisheries Science and Management. Amendment 10 to the Atlantic Sea Scallop Fishery Management Plan (FMP) and related topics will be discussed during the second half of the day. The Scallop Committee will present proposed Amendment 10 management alternatives. Alternatives selected for further development will be analyzed in terms of their scallop, habitat, bycatch, gear conflict, enforcement, and social and economic impacts in a Draft Supplemental Environmental Impact Statement. Under consideration are proposals for: Rotational area management (which would also require a re-estimation of the overfishing definition reference points, consistent with the expected change in size selection and other factors); a requirement for scallop nets to be modified to achieve the same selectivity and/or equivalent fishing mortality as dredges; a change in the fishing year and the annual review process; and possibly adjusting the present crew size limits. The Scallop Committee also will provide an update on the development of the annual adjustment to management measures for the FMP (Framework Adjustment 14) scheduled to take effect in March 2001.

Thursday, June 15, 2000

The second day of the meeting will begin with reports on recent activities from the Council Chairman, Executive Director, the Regional Administrator, Northeast Region, NMFS (Regional Administrator), Northeast Fisheries Science Center and Mid-Atlantic Fishery Management Council liaisons, and representatives of the Coast Guard, NMFS Enforcement, and the Atlantic States Marine Fisheries Commission.

Announcement of Experimental Fishery Application

The Regional Administrator will discuss, during the reports portion of the agenda, the receipt of an experimental fishing proposal submitted by the Massachusetts Division of Marine Fisheries (MADMF) for which the issuance of Exempted Fishing Permits (EFPs) is required. The Regional Administrator has made a preliminary determination that the application is complete and warrants further consideration. The public may comment during the discussion at the Council meeting, or may submit comments in writing. Written comments must be received by June 15, 2000, and should be submitted to: Patricia Kurkul, Regional Administrator, NMFS, Northeast Regional Office, 1 Blackburn Drive, Gloucester, MA 01930. Written comments may be submitted by facsimile (fax) to (978) 281-9135, but may not be submitted via e-mail or the Internet. The proposal is summarized here.

The MADMF proposes to continue the work they conducted beginning in 1997 to show that small-mesh whiting fishing with a raised footrope trawl configuration can effectively target whiting in areas east of Cape Cod. The experimental area, formerly referred to as Area 3 during the 1999 experiment, is proposed to be modified this year by shifting the western boundary farther west to the port of Chatham, MA (see coordinates below).

Point Number | Latitude | Longitude
4 | 42°14.05' | 70°08.80'
7 | 42°09.20' | 69°47.80'
8 | 41°54.85' | 69°35.20'
9 | 41°41.50' | 69°32.85'
10 | 41°39.00' | 69°44.30'
11 | 41°45.60' | 69°51.80'
12 | 41°52.30' | 69°52.55'
13 | 41°55.50' | 69°53.45'
4 | 42°14.05' | 70°08.80'

This change in area would likely expand the participating fleet and improve our understanding of bycatch levels in the area through increased data collection and gear experimentation. The industry cooperative experiment is proposed to take place from September 1 to December 30, 2000. The experiment is likely to involve approximately 20 vessels; 5 vessels in the early part of the season (September through November) and an additional 15 beginning in late November through to December 2000. Enrollment would be established by the MADMF similar to last year, when historical participation and previous experience with the raised footope trawl gear operation played a role in the selection process conducted by the MADMF. It is expected that 100 percent of the participants would be vessels from Chatham, MA, during the early part of the season beginning in September through to October. In November and December, it is expected that approximately 50 percent of the participants would be from the ports of Gloucester and Provincetown, MA, with the remaining vessels continuing to be from Chatham. The purpose of the experimental fishery is to document bycatch levels in this area. If they are below the 5-percent regulated multispecies bycatch standard, the fishery could be found to be an exempted fishery.

The Council approved an exemption request for an area comprising the experimental Areas 2B and 4 under Framework 35 to the Northeast Fishery Management Plan (Framework 35). The MADMF did not request that Area 3 be included in the exemption due to the low sample size and inconclusive data results from previous year's experiments. Therefore, this year's experiment proposes to increase the sampling size (fleet size expansion) and improve the confidence level of data on bycatch of regulated multispecies, overall effort, species composition and gear performance.

The MADMF has stated that the gear specifications would be identical to those approved under Framework 35, including the minimum mesh size requirement of 2.5 inches (6.35 cm), the headrope, ground gear, footrope and drop chains settings and configurations, option to use the sweepless trawl, and a prohibition on use of net strengtheners. Also, net possession restrictions would be amended to allow fishermen to leave their large-mesh groundfish net aboard the vessel (in addition to the small mesh raised footrope trawl) when enrolled in the fishery.

The area defined by the MADMF for the experiment overlaps a portion of the Gulf of Maine Rolling Closure Area V (Rolling Closure Area) from October 1—November 30, 2000. NMFS is also requesting comments on MADMF's request that participants in the experimental fishery be allowed to fish in the Rolling Closure Area. The MADMF hopes that this overlap would help define a continuous exemption area including the area proposed in Framework 35 and the area proposed in this experiment.

The MADMF personnel would sea sample approximately 10-20 percent of the total trips during the course of the experimental fishery season; September through December of 2000. In addition, participants would be required to record catch information on a tow-by-tow basis on MADMF-supplied logs and submit all logs weekly to MADMF. If bycatch problems should develop, MADMF would take the appropriate remedial actions to amend the problem, as they have in past years.

EFPs would be issued to participating federally permitted whiting vessels to exempt them from DAS, mesh size and other gear restrictions required as part of the Northeast Multispecies FMP during the specified season.

Following reports and consideration of the experimental fishery proposal, the Groundfish Committee will report on the development of Amendment 13 to the Northeast Multispecies FMP. The Habitat Committee will report during the afternoon session. Included will be a presentation on the 2000 Habitat Annual Review Report, discussion and possible approval of recommendations concerning the establishment of one or more dedicated habitat research areas, and review and possible approval of a letter to the Minerals Management Service about proposed sand mining off the New Jersey coast.

Prior to addressing any other outstanding business, the Capacity and Herring Committees will update the Council on their most recent activities.

Although other non-emergency issues not contained in this agenda may come before this Council for discussion, those issues may not be the subject of formal action during this meeting. Council action will be restricted to those issues specifically listed in this notice and any issues arising after publication of this notice that require emergency action under section 305(c) of the Magnuson-Stevens Act, provided the public has been notified of the Council's intent to take final action to address the emergency.

The New England Council will consider public comments at a minimum of two Council meetings before making recommendations to the Regional Administrator on any framework adjustment to a fishery management plan. If she concurs with the adjustment proposed by the Council, the Regional Administrator has the discretion to publish the action either as proposed or final regulations in the Federal Register. Documents pertaining to framework adjustments are available for public review 7 days prior to a final vote by the Council.

Special Accommodations

This meeting is physically accessible to people with disabilities. Requests for sign language interpretation or other auxiliary aids should be directed to Paul J. Howard (see ADDRESSES) at least 5 days prior to the meeting date.

Dated: May 24, 2000.
Richard W. Surdi,
Acting Director, Office of Sustainable Fisheries, National Marine Fisheries Service.

[FR Doc. 00-13569 Filed 5-30-00; 8:45 am]

BILLING CODE 3510-22-F